FEDERAL COMMUNICATIONS COMMISSION

Sunshine Act Meeting; Localism Hearing and Open Commission Meeting; Wednesday, October 31, 2007

October 24, 2007.

The Federal Communications Commission will hold an Open Meeting on the subjects listed below on Wednesday, October 31, 2007, which is scheduled to commence at 9 a.m. in Room TW-C305, at 445 12th Street, SW., Washington, DC. This Open Meeting will be immediately followed by a Localism Hearing that will also be held in the Commission Meeting Room, Room TW-C305. The Localism Hearing will include a presentation by the Media Bureau summarizing the record the Commission has received on the topic of localism, a panel presentation, and a period for public comment. The Localism Hearing will conclude at 2 p.m.

Item No. | Bureau | Subject
1 | Wireline Competition | Title: Implementation of section 224 of the Act; Amendment of the Commission's Rules and Policies Governing Pole Attachments (RM-11293, RM-11303).
|  | Summary: The Commission will consider a Notice of Proposed Rulemaking concerning appropriate changes, if any, to its implementation of section 224 of the Act, governing access to pole attachments.
2 | Wireline Competition | Title: IP-Enabled Services (WC Docket No. 04-36); Telephone Number Portability (CC Docket No. 95-116); Numbering Resource Optimization (CC Docket No. 99-200); Telephone Number Requirements for IP-Enabled Services Providers; Local Number Portability Porting Interval and Validation Requirements.
|  | Summary: The Commission will consider a Report and Order, Declaratory Ruling, Order on Remand, and a Notice of Proposed Rulemaking addressing a number of local number portability (LNP) and certain other numbering requirements.
3 | Media | Title: Exclusive Service Contracts for Provision of Video Services in Multiple Dwelling Units and Other Real Estate Developments (MD Docket No. 07-51).
|  | Summary: The Commission will consider a Report and Order concerning the use of exclusive contracts for the provision of video services to multiple dwelling units (“MDUs”) and other real estate developments.
4 | Media | Title: Implementation of section 621(a)(1) of the Cable Communications Policy Act of 1984 as amended by the Cable Television Consumer Protection and Competition Act of 1992 (MB Docket No. 05-311).
|  | Summary: The Commission will consider a Second Report and Order concerning Section 621(a)(1)'s directive that local franchising authorities not unreasonably refuse to award competitive franchises and the application of the Commission's findings in the First Report and Order to existing franchises.
5 | Media | Title: Localism Hearing.
|  | Summary: Along with competition and diversity, promoting localism is a key goal of the Commission's media ownership rules. The purpose of the hearing is to gather information from consumers, industry, civic organizations, and others on broadcasters' role in their local communities and proposed changes to our rules.

Open captioning will be provided for this event. Other reasonable accommodations for people with disabilities are available upon request. Include a description of the accommodation you will need including as much detail as you can. In addition, include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

Federal Communications Commission.
Marlene H. Dortch,
Secretary.

[FR Doc. 07-5383 Filed 10-25-07; 1:05 pm]

BILLING CODE 6712-01-M